FEDERAL COMMUNICATIONS COMMISSION

47 CFR Part 73

[DA 05-2219; MB Docket No. 05-248; RM-11262]

Radio Broadcasting Services; Falmouth, Midway and Owingsville, KY

AGENCY: Federal Communications Commission.

ACTION: Proposed rule.

SUMMARY: This document requests comments on a petition for rulemaking filed jointly by L.M. Communications of Kentucky, LLC, licensee of Station WBTF(FM), Midway, Kentucky, and Gateway Radio Works, Inc., licensee of Station WKCA(FM), Owingsville, Kentucky, proposing to substitute Channel 298C3 for Channel 300A at Midway, Kentucky and modify Station WBTF's license accordingly, to substitute Channel 295A for 299A at a new site at Owingsville, Kentucky and modify Gateway's license for Station WKCA accordingly, and to substitute Channel 300A for Channel 299A at Falmouth, Kentucky and modify the Station WIOK(FM) license accordingly. Hammond Broadcasting, Inc., Ltd., licensee of Station WIOK(FM) is ordered to show cause why its license should not be modified to specify operation on Channel 300A in lieu of 299A at Owingsville. Channel 298C3 can be allotted at Midway, Kentucky at a site 12.3 kilometers (7.6 miles) southeast of the community at coordinates 38-06-25 NL and 84-33-19 WL. Channel 300A can be allotted at Falmouth at Station WIOK's current site 10.3 kilometers (6.4 miles) south of the community at coordinates 38-35-13 NL and 84-21-40 WL. Channel 295A can be allotted at Owingsville at Petitioners' requested site 14.0 kilometers (8.7 miles) east of the community 38-08-41 NL and 84-08-34 WL.

DATES: Comments must be filed on or before September 19, 2005, and reply comments on or before October 4, 2005.

ADDRESSES: Secretary, Federal Communications Commission, 445 Twelfth Street, SW., Washington, DC 20554. In addition to filing comments with the FCC, interested parties should serve the Petitioner as follows: John F. Garziglia, Esq., Michael H. Shacter, Esq., Womble, Carlyle, Sandridge, & Rice, PLLC, 1401 I Street, NW., Seventh Floor, Washington, DC 20005 (Counsel to Gateway Radio Works, Inc.); Sally A. Buckman, Esq., Leventhal, Senter & Lerman, 2000 K Street, NW., Suite 600, Washington, DC 20006 (Counsel to L.M. Communications of Kentucky, LLC).

FOR FURTHER INFORMATION CONTACT: Victoria McCauley, Media Bureau, (202) 418-2180.

SUPPLEMENTARY INFORMATION: This is a synopsis of the Commission's Notice of Proposed Rule Making and Order to Show Cause, MB Docket No. 05-248, adopted July 27, 2005, and released July 29, 2005. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420. This document does not contain proposed information collection requirements subject to the Paperwork Reduction Act of 1995, Public Law 104-13. In addition, therefore, it does not contain any proposed information collection burden “for small business concerns with fewer than 25 employees,” pursuant to the Small Business Paperwork Relief Act of 2002, Public Law 1107-198, see 44 U.S.C. 3506(c)(4).

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Kentucky, is amended by removing Channel 298A and adding Channel 300A at Falmouth, by removing Channel 300A and adding Channel 298C3 at Midway, and by removing Channel 299A and adding Channel 295A at Owingsville.

Federal Communications Commission.
John A. Karousos,
Assistant Chief, Audio Division, Media Bureau.

[FR Doc. 05-16066 Filed 8-16-05; 8:45 am]

BILLING CODE 6712-01-P